DEPARTMENT OF AGRICULTURE

Forest Service

Medicine Bow-Routt National Forests and Thunder Basin National Grassland, Campbell County, WY; Mackey Road Relocation

AGENCY: Forest Service, USDA.

ACTION: Notice of intent to prepare an environmental impact statement.

SUMMARY: The Forest Service proposes to authorize Peabody Powder River Mining, LLC to vacate and relocate portions of Campbell County Road 69, Mackey Road, onto National Forest System (NFS) land on Thunder Basin National Grassland. The proposal comprises new construction of approximately 6.56 miles on NFS lands in portions of Sections 6-8, 17, and 21-22 of T. 42 N., R. 69 W. and Sections 29-31 of T. 43 N., R. 69 W., 6th Principal Meridian, Campbell County, Wyoming.

DATES: Comments concerning the project or the scope of the planned environmental analysis must be received by January 17, 2012. The draft environmental impact statement (DEIS) is expected to be available by January 2012, and the final environmental impact statement (FEIS) is expected to be completed by April 2012.

ADDRESSES: Send written comments to Richard A. Cooksey, Deputy Forest Supervisor, Medicine Bow-Routt National Forests and Thunder Basin National Grassland, 2250 East Richards Street, Douglas, Wyoming 82633, or email comments to comments-rm-mbr-douglas-thunder-basin@fs.fed.us.

FOR FURTHER INFORMATION CONTACT: Peter Rose, Solid Minerals Project Manager, Douglas Ranger District, 2250 East Richards St, Douglas, WY 82633, (307) 358-4690.

Individuals who use telecommunication devices for the deaf (TDD) may call the Federal Information Relay Service (FIRS) at 1-800-877-8339 between 8 a.m. and 8 p.m., Eastern Time, Monday through Friday.

SUPPLEMENTARY INFORMATION: Federal coal lessee (WYW-179011, WYW-0321779, WYW-172413, WYW172414, and WYW151134), Peabody Powder River Mining, LLC (PPRM), filed with the USDA Forest Service a request for authorization to vacate and relocate portions of Mackey (CR 69) and temporary Reno (CR 83) county roads onto NFS lands on March 22, 2011. Vacated road segments will be mined through and subsequently reclaimed.

Purpose and Need for Action

The purpose of this action is to relocate the affected segments of Mackey and Reno roads outside of the mining area so that the underlying coal can be mined and to prevent interrupted road services.

Proposed Action

The Forest Service proposes to authorize PPRM to construct 6.56 miles of new road on NFS lands. Of the 6.56 miles, 1.25 miles coincides with an existing Forest Service Road—School Creek Road—that will be reconstructed. The environmental analysis will include approximately 250 acres of NFS lands. Road specifications will conform to or exceed current county road standards. Upon completion of the road construction, the final easement would be acquired by Campbell County, and this road will be maintained and operated as part of the county road system. PPRM has initiated formal discussion with Campbell County regarding the relocation, and public hearings were held by the County in November 2010.

Responsible Official

Richard Cooksey, Deputy Forest Supervisor, Medicine Bow-Routt National Forests and Thunder Basin National Grassland, 2468 Jackson Street, Laramie, Wyoming 82070 is the Official responsible for making the decision on this action.

Nature of Decision To Be Made

The Responsible Official will consider the results of the analysis and then document the final decision in a Record of Decision (ROD). The decision will include a determination on whether or not to authorize the Mackey Road Relocation to occur in the above described lands as proposed by the applicant (PPRM), or to allow an alternative to the proposed action.

Preliminary Issues

The Forest Service has identified the following preliminary issues related to the proposed action: (1) Potential impacts to wildlife in the proposed project area; (2) potential impacts to the watershed; (3) potential impacts to cultural and paleontological resources; (4) potential impacts to adjacent private lands; and (5) potential impacts to livestock grazing permits on the National Grassland.

Scoping Process

This notice of intent initiates this phase of the scoping process, which guides the development of the environmental impact statement. Prior to this notice, the Forest Service published a Legal Notice in the Laramie Boomerang on May 1, 2011 initiating a 30-day formal comment period. Scoping notices were also mailed to Federal, state, and local government agencies, conservation groups, and individuals who could be impacted by the project.

A draft environmental impact statement (DEIS) will be prepared for comment. The comment period on the DEIS will be 45 days from the date the Environmental Protection Agency publishes the notice of availability in the Federal Register. This notice is to inform the public of the proposed action and invite the public to participate by providing any comments or information they may have concerning the proposal. This information will be used to identify important issues and determine the extent of the analysis necessary to make an informed decision on the proposal. Such issues will assist in the formulation of additional alternatives and the development of mitigation measures necessary to reduce impacts.

In addition to this notice, the scoping process included the distribution of letters to interested parties requesting comments on the proposed action, and a public notice was published in area media.

It is important that reviewers provide their comments at such times and in such manner that they are useful to the agency's preparation of the environmental impact statement. Therefore, comments should be provided prior to the close of the comment period and should clearly articulate the reviewer's concerns and contentions.

Comments received in response to this solicitation, including names and addresses of those who comment, will be part of the public record for this proposed action. Comments submitted anonymously will be accepted and considered, however.

Dated: December 9, 2011.
Misty A. Hays,
Deputy District Ranger.

[FR Doc. 2011-32200 Filed 12-15-11; 8:45 am]

BILLING CODE P